DEPARTMENT OF LABOR

Employment and Training Administration

Notice of Determinations Regarding Eligibility To Apply for Worker Adjustment Assistance and Alternative Trade Adjustment Assistance

In accordance with Section 223 of the Trade Act of 1974, as amended (19 U.S.C. 2273) the Department of Labor herein presents summaries of determinations regarding eligibility to apply for trade adjustment assistance for workers (TA-W) number and alternative trade adjustment assistance (ATAA) by (TA-W) number issued during the period of October 9 through October 13, 2006.

In order for an affirmative determination to be made for workers of a primary firm and a certification issued regarding eligibility to apply for worker adjustment assistance, each of the group eligibility requirements of section 222(a) of the Act must be met.

I. Section (a)(2)(A) all of the following must be Satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss of business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of section 222(a)(2)(A) (increased imports) of the Trade Act have been met.

TA-W-60,165; Emerson Climate Technologies, A Business of Emerson Electric, Emerson Heating Products Division, Murfreesboro, TN: September 18, 2005.

Affirmative Determinations for Worker Adjustment Assistance and Alternative Trade Adjustment Assistance

The following certifications have been issued. The date following the company name and location of each determination references the impact date for all workers of such determination.

The following certifications have been issued. The requirements of section 222(a)(2)(A) (increased imports) and section 246(a)(3)(A)(ii) of the Trade Act have been met.

TA-W-59,985; River City Trucking, Old Town, ME: August 28, 2005.

TA-W-60,119; Brite Star Manufacturing, A Subsidiary of J. Kinderman and Sons, Philadelphia, PA: September 22, 2006.

TA-W-60,168; Korn Industries, A Subsidiary of Chromcraft Revington, Sumter, SC: September 20, 2005.

TA-W-59,930; Shaw Mudge and Company, Shelton, CT: August 18, 2005.

TA-W-60,048; Pure Flo, LLC, A Subsidiary of ITT Corp., Kenosha, WI: September 8, 2005.

TA-W-60,081; Alma Products Company, Automotive Clutch and Disc Assembly, Alma, MI: September 12, 2005.

TA-W-60,127; Penn-Elkco Spring Co., St. Marys, PA: September 18, 2005.

TA-W-60,151; CEP Products, A Subsidiary of the Reserve Group, Lapeer, MI: September 15, 2005.

TA-W-60,057; Citywear Production, Inc., New York, NY: September 9, 2005.

The following certifications have been issued. The requirements of section 222(a)(2)(B) (shift in production) and section 246(a)(3)(A)(ii) of the Trade Act have been met.

TA-W-59,820; Airfoil Technologies International-Ohio, Mentor, OH: July 21, 2005.

TA-W-60,082; Northern Diecast Corp., Harbor Springs, MI: September 12, 2005.

TA-W-60,102; Sematic USA, Inc., Tyler Elevator Products, Valley View, OH: September 13, 2005.

TA-W-60,150; Celestica Corp., Westminster, CO: September 25, 2005.

TA-W-60,155; Technicolor Videocassette of Michigan, A Subsidiary of Thomson, Livonia, MI: September 23, 2005.

TA-W-60,179; Tenneco, Elastomers Division, Napoleon, OH: October 2, 2005.

TA-W-60,193; Ilpea, Inc., Division 26, A Subsidiary of Ilpea Spa, Ft. Smith, AR: September 29, 2005.

TA-W-60,195; Walter Kidde Residential Equipment, Kidde Residential and Commercial Division, Mebane, NC: October 1, 2005.

TA-W-60,191; Hamilton Beach/Proctor-Silex, Inc., Commercial Division, Southern Pines, NC: August 13, 2006.

The following certifications have been issued. The requirements of Section 222(b) (supplier to a firm whose workers are certified eligible to apply for TAA) and Section 246(a)(3)(A)(ii) of the Trade Act have been met.

TA-W-60,021; Elite Cushions, Inc., Dudley Shoals Division, Granite Falls, NC: September 7, 2005.

Negative Determinations for Alternative Trade Adjustment Assistance

The Department as determined that criterion (2) of Section 246 has not been met. Workers at the firm possess skills that are easily transferable.

TA-W-60,165; Emerson Climate Technologies, A Business of Emerson Electric, Emerson Heating Products Division, Murfreesboro, TN.

Negative Determinations for Worker Adjustment Assistance and Alternative Trade Adjustment Assistance

In the following cases, the investigation revealed that the eligibility criteria for worker adjustment assistance have not been met for the reasons specified.

Since the workers of the firm are denied eligibility to apply for TAA, the workers cannot be certified eligible for ATAA.

The investigation revealed that criteria (a)(2)(A)(I.A.) and (a)(2)(B)(II.A.) (employment decline) have not been met.

TA-W-60,181; Custom Fashions, Inc., Tupelo, MS.

The investigation revealed that criteria (a)(2)(A)(I.B.) (Sales or production, or both, did not decline) and (a)(2)(B)(II.B.) (shift in production to a foreign country) have not been met.

TA-W-60,115; Modine Manufacturing, Automotive Division, Richland Plant, Blythewood, SC.

The investigation revealed that criteria (a)(2)(A)(I.C.) (increased imports) and (a)(2)(B)(II.B.) (shift in production to a foreign country) have not been met.

TA-W-59,992; Aimsworth Engineered, USA LLC, Bemidji, MN.

TA-W-59,992A; Aimsworth Engineered, USA LLC, Cook, MN.

TA-W-60,034; Visteon Systems LLC, North Penn Electronics Facility, Lansdale, PA.

TA-W-60,088; DuPont Performance Coatings, Automotive System Division, Troy, MI.

TA-W-60,116; Journal Sentinel Inc., Production Plant, West Milwaukee, WI.

The workers' firm does not produce an article as required for certification under Section 222 of the Trade Act of 1974.

TA-W-60,042; Mattel, Inc., Boys' Entertainment Design Unit, El Segundo, CA.

TA-W-60,108; XPEDX, A Division of International Paper, Greensboro, NC.

TA-W-60,109; Agere Systems, Assembly and Test Support, Allentown, PA.

TA-W-60,184; Bellsouth Corporation, Bellsouth Telecommunications, Inc., Division, Paducah, KY.

I hereby certify that the aforementioned determinations were issued during the period of October 9 through October 13, 2006. Copies of these determinations are available for inspection in Room C-5311, U.S. Department of Labor, 200 Constitution Avenue, NW., Washington, DC 20210 during normal business hours or will be mailed to persons who write to the above address.

Dated: October 19, 2006.
Linda G. Poole,
Certifying Officer, Division of Trade Adjustment Assistance.

[FR Doc. E6-17862 Filed 10-24-06; 8:45 am]

BILLING CODE 4510-30-P